DEPARTMENT OF DEFENSE

Department of the Air Force

[USDF-2008-0005]

Privacy Act of 1974; System of Records

AGENCY: Department of the Air Force, DoD.

ACTION: Notice To Add a System of Records.

SUMMARY: The Department of the Air Force is proposing to add a system of records to its inventory of record systems subject to the Privacy Act of 1974 (5 U.S.C. 552a), as amended.

DATES: The changes will be effective on April 2, 2008, unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novell Hill at (703) 696-6518.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted on February 11, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: February 26, 2008.
L.M. Bynum,
Alternate OSD Federal Register Liaison Officer, Department of Defense.

F036 ARPC M

SYSTEM NAME:

Air Reserve Personnel Center (ARPC) Case Management System.

SYSTEM LOCATION:

Air Reserve Personnel Center (ARPC), 6760 East Irvington Place, Denver, CO 80280-6900.

CATEGORIES OF INDIVIDUALS COVERED BY THE SYSTEM:

Air National Guard, Air Force Reserve, retired active duty Air Force and retired Air Force Reserve members and dependents, internal employees, and members of the general public.

CATERGORIES OF RECORDS IN THE SYSTEM:

Name, Social Security Number (SSN), address, case issue number, and/or account registration number, customer service account and case files including requests submitted by the applicant; intra-agency and interagency correspondence concerning cases; correspondence from and to the applicant; additional supporting documentation that the applicant submits; and military personnel data system extracts.

AUTHORITY FOR MAINTENANCE OF THE SYSTEM:

10 U.S.C. 803, Department of the Air Force; 10 U.S.C. 10204, Personnel Records; and E.O. 9397 (SSN).

PURPOSE(S):

Documents are collected and maintained to assist members in requesting and obtaining various personnel and other forms of official ARPC support, tracking personnel transactions, to provide a record of those requests, and used as a management tool.

ROUTINE USES OF RECORDS MAINTAINED IN THE SYSTEM, INCLUDING CATEGORIES OF USERS AND THE PURPOSES OF SUCH USES:

In addition to those disclosures generally permitted under 5 U.S.C. 552a(b) of the Privacy Act of 1974, these records or information contained therein may specifically be disclosed outside the Department of Defense as a routine use pursuant to 5 U.S.C. 552a(3).

The “Blanket Routine Uses” published at the beginning of the Air Force's compilation of the systems of records notices apply to this system.

STORAGE:

Electronic storage media.

RETRIEVABILITY:

Individual's name, Social Security Number (SSN), case issue number, and/or account registration number.

SAFEGUARDS:

Records are accessed by person(s) responsible for servicing the record system in performance of their official duties who are properly screened and cleared for need-to-know. Records are protected by standard Air Force access authentication procedures and by network system security software.

RETENTION AND DISPOSAL:

Disposition is pending until National Archives and Record Administration approves proposed disposition schedule.

SYSTEM MANAGER(S) AND ADDRESS:

Director of Personnel Data Systems, HQ ARPC/DPD, 6760 East Irvington Place, Denver, CO 80280-6900.

NOTIFICATION PROCEDURE:

Individuals seeking to determine whether this system of records contains information about themselves should address written inquiries to Air Reserve Personnel Center, Freedom of Information Act (FOIA) Manager, HQ ARPC/SCX, 6760 East Irvington Place, Denver, CO 80280-6500.

The request should contain the full name of the individual, military grade, Social Security Number (SSN) and must be signed.

RECORD ACCESS PROCEDURES:

Individuals seeking to access records about themselves contained in this system should submit written requests to Air Reserve Personnel Center, Freedom of Information Act (FOIA) Manager, HQ ARPC/SCX, 6760 East Irvington Place, Denver, CO 80280-6500.

The request should contain the full name of the individual, military grade, Social Security Number (SSN) and be signed.

CONTESTING RECORD PROCDEDURES:

The Air Force rules for accessing records and for contesting contents and appealing initial agency determinations are published in Air Force Instruction 33-332; 32 CFR part 806b; or may be obtained from the system.

RECORD SOURCE CATERGORIES:

Air National Guard, Air Force Reserve, and Air Force retirees who request personnel services or assistance; Air Force Personnel Center, the Defense Finance and Accounting Service; the National Personnel Records Center; other activities of the Department of Defense; and correspondence from other cognizant persons or parties.

EXEMPTIONS CLAIMED FOR THE SYSTEM:

None.

[FR Doc. 08-915 Filed 2-29-08; 8:45am]

BILLING CODE 5001-06-P